DEPARTMENT OF THE INTERIOR

Bureau of Land Management

[WY-06-00-2821-JL]

Emergency Motor Vehicle Closure

AGENCY: Bureau of Land Management, Interior.

ACTION: A temporary closure to motor vehicle use on public lands within and adjacent to areas burned by the Henderson Draw, Statzer Point, Hemingway Draw, 33 Mile and Dead Horse Fires administered by the Bureau of Land Management, Casper Field Office.

SUMMARY: During the summer of 2000, these fires burned approximately 29,300 acres of public, state and, private land in Natrona County, Wyoming. About 13,700 acres of public land administered by the Bureau of Land Management were burned. The vehicle closure applies to public lands generally contained within the following descriptions:

Henderson Draw Fire:

T. 37 N., R. 76 W., Sections 4, 5, 6, 7, 8, 9 and 10.

T. 36 N., R. 77 W., Sections 1, 12 and 13.

T. 37 N., R. 76 W., Sections 9, 19, 20, 30 and 31.

T. 37 N., R. 77 W., Sections 24, 25 and 26.

Statzer Point Fire:

T. 37 N., R. 80 W., Sections 5, 7 and 8.

T. 38 N., R. 80 W., Section 32.

Hemingway Draw Fire:

T. 37 N., R. 81 W., Sections 17, 20, 21, 28 and 29.

33 Mile Fire:

T. 35 N., R. 80 W., Sections 4, 7 and 8.

T. 36 N., R. 80 W., Sections 29 and 33.

Dead Horse Fire:

T. 32 N., R. 80 W., Sections 18, 19, 20, 29, 30 and 32.

T. 32 N., R. 81 W., Sections 13, 24, 25, 26 and 27, all in the 6th Principal Meridian.

Because of the damage caused by the fire and fire-fighting activities, this closure is necessary to prevent erosion, to prevent the creation of new motor vehicle routes and to enhance fire rehabilitation efforts within and adjacent to the burned area. A map of the fire areas is available at the Casper Field Office.

Prohibited Act

Pursuant to 43 CFR 8364.1, motorized vehicle use is prohibited on public land administered by the Bureau of Land Management within and near the boundary of the fires. This includes all fire lines created by bulldozers and graders. Public access routes to and through the area will be signed as closed to motor vehicles.

Penalties

The authority for this closure is found under section 303(a) of the Federal Land Policy and Management Act of 1976 (43 U.S.C. 1733(a)), 43 CFR 8360.0-7 and 43 CFR 8364.1. Any person who knowingly and willfully violates this closure and is convicted may be fined no more than $1,000 or imprisoned no more than 12 months, or both.

Exceptions

This closure applies to all motorized vehicles excluding (1) any emergency or law enforcement vehicle while being used for emergency purposes; (2) any vehicle used for planning and implementing the rehabilitation plan for the fire area; and, (3) any vehicle whose use is expressly authorized in writing by the Field Manager, Casper Field Office.

EFFECTIVE DATE: This emergency closure is effective September 11, 2000, and will continue through November 30, 2000.

FOR FURTHER INFORMATION, CONTACT: James K. Murkin, Field Manager, Casper Field Office, Bureau of Land Management, 2987 Prospector Drive, Casper, WY 82604-2968. Telephone: 307-261-7600.

Dated: September 1, 2000.
James K. Murkin,
Field Manager.

[FR Doc. 00-23317 Filed 9-8-00; 8:45 am]

BILLING CODE 4310-22-P